DEPARTMENT OF DEFENSE

Department of the Army, Corps of Engineers;

Notice of Availability of Supplemental Draft Environmental Impact Statement for the Proposed Rio del Oro Specific Plan Project, in the City of Rancho Cordova, Sacramento County, CA

AGENCY: Department of the Army, U.S. Army Corps of Engineers, DoD.

ACTION: Notice of availability.

SUMMARY: Pursuant to the National Environmental Policy Act (NEPA), the U.S. Army Corps of Engineers (USACE), Sacramento District published a notice in the Federal Register on December 8, 2006 (71 FR 71142-71143), informing the public of the availability of the Draft Environmental Impact Statement (DEIS) for the Rio del Oro Specific Plan Project. USACE, Sacramento District has prepared a Supplemental Draft Environmental Impact Statement (SDEIS) in response to new information. It is now available for review and comment.

The SDEIS provides new information and additional analyses related to utilities and service systems (specifically, water supply) and biological resources. Like the 2006 DEIS, the SDEIS analyzes the potential effects of implementing each of five alternative scenarios for a mixed-use development in the approximately 3,828-acre Rio del Oro Specific Plan area, in the City of Rancho Cordova, Sacramento County, CA. The alternatives considered in detail in the SDEIS are: (1) Proposed Project/Proposed Action (i.e., Proposed Project Alternative), the Applicants' Preferred Alternative; (2) High Density (Increased Densities Consistent with Sacramento Area Council of Governments Blueprint); (3) Impact Minimization; (4) No Federal Action (No Section 404 of the Clean Water Act Permit); and (5) No Project/No Action (No development).

DATES: All written comments must be postmarked on or before July 6, 2008. A public hearing will be held on May 22, 2008 at 6 p.m. at the Rancho Cordova City Hall, located at 2729 Prospect Park Drive, Suite 220, Rancho Cordova, CA 95670. Oral and written comments will be accepted at the public hearing. Written and oral comments will be given equal weight and all comments received or postmarked by the date of the hearing, or by the above date in the absence of a hearing, will be considered by the Corps in preparing the Final EIS. Comments received or postmarked after the date of the hearing, or after the above date in the absence of a hearing, will be considered to the extent practicable.

ADDRESSES: Comments may be submitted in writing to: Kathleen Dadey, U.S. Army Corps of Engineers, Sacramento District, Regulatory Branch, 1325 J Street, Room 1480, Sacramento, CA 95814-2922, or via e-mail to Kathleen.A.Dadey@usace.army.mil.

FOR FURTHER INFORMATION CONTACT: Kathleen Dadey at (916) 557-7253.

SUPPLEMENTARY INFORMATION: The environmental effects of five alternatives were evaluated in detail in the 2006 DEIS. Under the Proposed Project/Proposed Action (Proposed Project Alternative), buildout of the project would occur in five phases over 25-30 years. The project provides for construction of approximately 11,601 residential dwelling units in three residential land use classifications on 1,920 acres, along with commercial land uses, neighborhood parks, and other uses such as a landscape corridor and greenbelt, and several public schools. New utilities and communications infrastructure would be installed and new roadways and on- and off-site infrastructure improvements would be completed. The project designates a 507-acre wetland preserve area and two elderberry preserve areas on the site. The four alternatives to the Proposed Project/Proposed Action described in the 2006 DEIS are as follows:

(1) The High Density Alternative embraces the concept of “Smart Growth,” consistent with the Sacramento Area Council of Governments Regional Blueprint. Under Smart Growth principles, areas planned for development are developed at higher densities. Although these higher densities may result in greater localized impacts on resources, the overall area of disturbance is reduced by concentrating development in particular locations.

(2) The Impact Minimization Alternative would reconfigure project components to reduce impacts to waters of the United States, including wetlands and high-quality biological habitat.

(3) The No Federal Action Alternative was designed to allow some development of the project site while avoiding the placement of dredged or fill material into waters of the United States.

(4) The No Project/No Action Alternative would preclude development of the project; under this alternative, the majority of the project site would remain under the jurisdiction of the City of Rancho Cordova.

After the 2006 DEIS was issued, USACE, Sacramento District determined that the water supply and biological resources portions of the DEIS should be supplemented, as described below.

The SDEIS includes a revised water-supply analysis that describes the various sources of water for the project, including short-term sources for development of Phase 1 and long-term water supplies for all phases of development, and impacts associated with providing water to the project. The analysis addresses the following elements set forth in the case of Vineyard Area Citizens for Responsible Growth, Inc. v. City of Rancho Cordova, 40 Cal. 4th 412 (2007), which was decided after the 2006 DEIS was released:

• Reasonable likelihood of the water sources proving available.

• Identification and quantification of water demand from project and cumulative development.

• Reasonable likelihood of identified water supply meeting the demands of project and cumulative development.

• Analysis of alternative sources of water and project contingencies (including curtailment) if water-supply sources are not reasonably likely.

• Impacts of water-supply infrastructure.

The revised water-supply analysis in the SDEIS also includes consideration of potentially significant impacts that could result from constructing a new water conveyance pipeline and booster pump station, as well as potentially significant impacts that could occur from curtailment of development as a mitigation measure. These impacts were not discussed as part of the 2006 DEIS.

The SDEIS also contains a revised biological resources section that incorporates information responding to comments raised during the DEIS public-review period to ensure that the analysis considers significant, relevant public comments. This section also contains new information related to additional biological resource studies that have been performed by the applicants since the DEIS was circulated, and some of the mitigation measures have been expanded or clarified. The expanded mitigation measures do not result in new significant impacts. The biological resources section also contains additional analysis of project consistency with the biological resources goals in the City of Rancho Cordova's general plan.

USACE invites full public participation to promote open communication and better decision-making. All persons and organizations that have an interest in the Rio del Oro Specific Plan Project are urged to participate in the NEPA process. A public hearing will be held as described in the DATES section. This hearing will be announced in advance through notices, media news releases, and/or mailings.

Copies of the SDEIS may be reviewed at the following locations: 1. U.S. Army Corps of Engineers, Sacramento District Web Site: http://www.spk.usace.army.mil/; 2. City of Rancho Cordova City Hall, 2729 Prospect Park Drive, Rancho Cordova, CA 95670; 3. City of Rancho Cordova Planning Department Web site: http://www.cityofranchocordova.org/Index.aspx?page=128.

Dated: April 29, 2008.
Christine Altendorf,
Acting District Engineer.

[FR Doc. E8-10216 Filed 5-6-08; 8:45 am]

BILLING CODE 3710-EZ-P